DEPARTMENT OF TRANSPORTATION

Federal Aviation Administration

14 CFR Part 39

[Docket No. FAA-2021-0539; Project Identifier 2018-SW-048-AD]

RIN 2120-AA64

Airworthiness Directives; Bell Textron Canada Limited Helicopters

AGENCY: Federal Aviation Administration (FAA), DOT.

ACTION: Notice of proposed rulemaking (NPRM).

SUMMARY: The FAA proposes to adopt a new airworthiness directive (AD) for Bell Textron Canada Limited (Bell) Model 206, 206A, 206A-1 (OH-58A), 206B, 206B-1, 206L, 206L-1, 206L-3, 206L-4, 222, 222B, 222U, 230, 407, 427, 429, and 430 helicopters. This proposed AD would require removing each shoulder harness seat belt comfort clip (comfort clip) from service, inspecting the shoulder harness seat belt for any rip or abrasion, and removing any shoulder harness seat belt from service that has a rip or abrasion. This proposed AD would also prohibit installing any comfort clip on any helicopter. This proposed AD was prompted by a report of a comfort clip interfering with the seat belt inertia reel. The actions of this proposed AD are intended to address an unsafe condition on these products.

DATES: The FAA must receive comments on this proposed AD by August 20, 2021.

ADDRESSES: You may send comments by any of the following methods:

• Federal eRulemaking Docket: Go to https://www.regulations.gov. Follow the online instructions for sending your comments electronically.

• Fax: (202) 493-2251.

• Mail: Send comments to the U.S. Department of Transportation, Docket Operations, M-30, West Building Ground Floor, Room W12-140, 1200 New Jersey Avenue SE, Washington, DC 20590-0001.

• Hand Delivery: Deliver to “Mail” address between 9 a.m. and 5 p.m., Monday through Friday, except Federal holidays.

For service information identified in this proposed rule, contact Bell Textron Canada Limited, 12,800 Rue de l'Avenir, Mirabel, Quebec J7J1R4; telephone 1-450-437-2862 or 1-800-363-8023; fax 1-450-433-0272; email productsupport@bellflight.com; or at https://www.bellflight.com/support/contact-support. You may view the referenced service information at the FAA, Office of the Regional Counsel, Southwest Region, 10101 Hillwood Pkwy., Room 6N-321, Fort Worth, TX 76177.

Examining the AD Docket

You may examine the AD docket on the internet at https://www.regulations.gov by searching for and locating Docket No. FAA-2021-0539; or in person at Docket Operations between 9 a.m. and 5 p.m., Monday through Friday, except Federal holidays. The AD docket contains this NPRM, the Transport Canada AD, any comments received, and other information. The street address for Docket Operations is listed above.

FOR FURTHER INFORMATION CONTACT: Steven Warwick, Aerospace Engineer, Certification Section, Fort Worth ACO Branch, Compliance & Airworthiness Division, FAA, 10101 Hillwood Pkwy., Fort Worth, TX 76177; telephone (817) 222-5225; email Steven.R.Warwick@faa.gov.

SUPPLEMENTARY INFORMATION:

Comments Invited

The FAA invites you to send any written relevant data, views, or arguments about this proposal. Send your comments to an address listed under ADDRESSES. Include “Docket No. FAA-2021-0539; Project Identifier 2018-SW-048-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Steven Warwick, Aerospace Engineer, Certification Section, Fort Worth ACO Branch, Compliance & Airworthiness Division, FAA, 10101 Hillwood Pkwy., Fort Worth, TX 76177; telephone (817) 222-5225; email Steven.R.Warwick@faa.gov. Any commentary that the FAA receives which is not specifically designated as CBI will be placed in the public docket for this rulemaking.

Background

Transport Canada, which is the aviation authority for Canada, has issued Canadian AD CF-2018-16, dated June 14, 2018 (Transport Canada AD CF-2018-16), to correct an unsafe condition for all serial-numbered Bell Model 206, 206A, 206A-1, 206B, 206B-1, 206L, 206L-1, 206L-3, 206L-4, 222, 222B, 222U, 230, 407, 427, 429 and 430 helicopters. Transport Canada advises that Bell delivered comfort clips with some helicopters, and that these comfort clips, which were also sold as spare parts or accessories, were intended to improve occupant comfort by reducing shoulder harness tension. However, Transport Canada advises the comfort clip may interfere with the shoulder harness inertia reel, preventing the harness from locking and resulting in injury to the occupant during an emergency landing. To prevent this unsafe condition, Transport Canada AD CF-2018-16 requires, within 25 hours air time or 10 days, whichever occurs first, determining if the comfort clips are installed. If the comfort clips are installed, Transport Canada AD CF-2018-16 requires removing them from service within 100 hours air time or 30 days, whichever occurs first, and inspecting each shoulder harness seat belt for damage and replacing any shoulder harness seat belt that has damage that exceeds allowable limits before further flight. Transport Canada AD CF-2018-16 also prohibits the installation of any comfort clip on any helicopter.

FAA's Determination

These helicopters have been approved by the aviation authority of Canada and are approved for operation in the United States. Pursuant to the FAA's bilateral agreement with Canada, Transport Canada, its technical representative, has notified the FAA of the unsafe condition described in its AD. The FAA is proposing this AD after evaluating all known relevant information and determining that an unsafe condition is likely to exist or develop on other helicopters of the same type designs.

Related Service Information

The FAA reviewed the following Bell Helicopter Alert Service Bulletins (ASBs), each dated January 11, 2016:

• ASB 222-15-112 for Bell Model 222, 222B, and 222U helicopters with serial numbers (S/N) 47006 through 47089, 47131 through 47156, and 47501 through 47574 (ASB 222-15-112);

• ASB 230-15-46 for Bell Model 230 helicopters with S/N 23001 through 23038;

• ASB 407-15-111 for Model 407 helicopters with S/N 53000 through 53900, 53911 through 54166, and 54300 through 54599;

• ASB 427-15-39 for Model 427 helicopters with S/N 56001 through 56084, 58001 and 58002 (ASB 427-15-39);

• ASB 429-15-27 for Model 429 helicopters with S/N 57001 through 57259 (ASB 429-15-27); and

• ASB 430-15-56 for Model 430 helicopters with S/N 49001 through 49129.

The FAA also reviewed the following Bell Helicopter ASBs, both Revision A and both dated February 5, 2016:

• ASB 206-15-133 for Model 206A/B and TH-67 helicopters with S/N 4 through 4690 and 5101 through 5313 (ASB 206-15-133); and

• ASB 206L-15-175 for Model 206L, 206L-1, 206L-3, and 206L-4 helicopters with S/N 45001 through 45153, 46601 through 46617, 45154 through 45790, 51001 through 51612, and 52001 through 52455 (ASB 206L-15-175).

All of the ASBs specify removing all variants of comforts clips from all seat belt assemblies. ASB 222-15-112, ASB 427-15-39, and ASB 429-15-27 also specify that although the helicopter models to which these ASBs apply were not affected by the original design at the time of certification and delivery of the helicopter, the affected parts may have been installed post-delivery to end owners/operators of those helicopters.

ASB 206-15-133 and ASB 206L-15-175 also specify that helicopters that have been modified per Supplemental Type Certificate (STC) SH2073SO (installation of shoulder harness restraint system) are affected and therefore included in the ASB applicability.

ASB 206L-15-175 also specifies that helicopters that have been modified per STC SH2751SO (installation of a passenger shoulder harness restraint system) are affected and therefore included in the ASB applicability.

Proposed AD Requirements

This proposed AD would require, within 25 hours time-in-service (TIS) after the effective date of this AD, removing from service each comfort clip and inspecting each shoulder harness seat belt for a rip and abrasion. If there is a rip or abrasion, this proposed AD would require removing the shoulder harness seat belt from service before further flight. This proposed AD would also prohibit installing a comfort clip on any helicopter as of the effective date of the proposed AD.

Differences Between This Proposed AD and the Transport Canada AD

This proposed AD would require removing the comfort clip and inspecting the shoulder harness seat belt within 25 hours TIS; Transport Canada AD CF-2018-16 requires inspecting for the presence of a comfort clip at 25 hours air time, or 10 days, whichever occurs first, and then requires removing the comfort clip, if installed. Transport Canada AD CF-2018-16 requires inspecting the shoulder harness seat belt for any damage that exceeds allowable limits within 100 hours air time or 30 days, whichever occurs first, whereas this proposed AD would require the inspection within 25 hours TIS and removing any shoulder harness seat belt from service before further flight if there is any rip or abrasion.

Transport Canada AD CF-2018-16 applies to all serial-numbered Model 206, 206A, 206A-1, 206B, 206B-1, 206L, 206L-1, 206L-3, 206L-4, 222, 222B, 222U, 230, 407, 427, 429 and 430 helicopters, whereas this proposed AD would apply to Model 206, 206A, 206A-1, 206B, 206B-1, 206L, 206L-1, 206L-3, 206L-4, 222, 222B, 222U, 230, 407, 427, 429 and 430 helicopters with a comfort clip installed or helicopters that have been modified per Supplemental Type Certificate (STC) SH2073SO (installation of shoulder harness restraint system) or STC SH2751SO (installation of a passenger shoulder harness restraint system).

Costs of Compliance

The FAA estimates that this proposed AD would affect 2,347 helicopters of U.S. Registry. The FAA estimates that operators may incur the following costs in order to comply with this proposed AD. Labor costs are estimated at $85 per work-hour.

Removing each comfort clip would take about 0.5 work-hour for an estimated cost of $43 per clip and up to $807,368 for the U.S. fleet.

Replacing a shoulder harness seat belt, if required, would take about 1 work-hour and parts would cost about $250 per shoulder harness seat belt, for an estimated cost of $335 per replacement.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Would not affect intrastate aviation in Alaska, and

3. Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bell Textron Canada Limited: Docket No. FAA-2021-0539; Project Identifier 2018-SW-048-AD.

(a) Comments Due Date

The FAA must receive comments on this airworthiness directive (AD) by August 20, 2021.

(b) Affected ADs

None.

(c) Applicability

This AD applies to Bell Textron Canada Limited (Bell) Model 206, 206A, 206A-1 (OH-58A), 206B, 206B-1, 206L, 206L-1, 206L-3, 206L-4, 222, 222B, 222U, 230, 407, 427, 429, and 430 helicopters, certificated in any category:

(1) With a shoulder harness seat belt comfort clip (comfort clip) installed; or

(2) That have been modified per Supplemental Type Certificate (STC) SH2073SO (installation of shoulder harness restraint system) or STC SH2751SO (installation of a passenger shoulder harness restraint system).

(d) Subject

Joint Aircraft Service Component (JASC) Code: 2500 Cabin Equipment/Furnishings.

(e) Unsafe Condition

This AD defines the unsafe condition as a comfort clip interfering with the seat belt inertia reel, which could prevent the seatbelt from locking and result in injury to the occupant during an emergency landing.

(f) Compliance

Comply with this AD within the compliance times specified, unless already done.

(g) Required Actions

(1) Within 25 hours time-in-service, after the effective date of this AD:

(i) Remove each comfort clip from service.

(ii) Inspect each shoulder harness seat belt for a rip and abrasion. If there is a rip or any abrasion, before further flight, remove the shoulder harness seat belt from service.

(2) As of the effective date of this AD, do not install any comfort clip on any helicopter.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Steven Warwick, Aerospace Engineer, Certification Section, Fort Worth ACO Branch, Compliance & Airworthiness Division, FAA, 10101 Hillwood Pkwy., Fort Worth, TX 76177; telephone (817) 222-5225; email Steven.R.Warwick@faa.gov.

(2) For service information identified in this AD, contact Bell Textron Canada Limited, 12,800 Rue de l'Avenir, Mirabel, Quebec J7J1R4; telephone 1-450-437-2862 or 1-800-363-8023; fax 1-450-433-0272; email productsupport@bellflight.com; or at https://www.bellflight.com/support/contact-support. You may view this referenced service information at the FAA, Office of the Regional Counsel, Southwest Region, 10101 Hillwood Pkwy., Room 6N-321, Fort Worth, TX 76177. For information on the availability of this material at the FAA, call (817) 222-5110.

(3) The subject of this AD is addressed Transport Canada AD CF-2018-16, dated June 14, 2018. You may view the Transport Canada AD on the internet at https://www.regulations.gov in the AD Docket in Docket No. FAA-2021-0539.

Issued on June 28, 2021.
Ross Landes,
Deputy Director for Regulatory Operations, Compliance & Airworthiness Division, Aircraft Certification Service.

[FR Doc. 2021-14257 Filed 7-2-21; 8:45 am]

BILLING CODE 4910-13-P